NATIONAL SCIENCE FOUNDATION

Notice of Time Extension for Public Comment on a Draft Programmatic Environmental Assessment

AGENCY: National Science Foundation.

ACTION: Notice of time extension for public comment.

SUMMARY: The National Science Foundation (NSF) is extending the time for public comment on a Draft Programmatic Environmental Assessment (PEA) for the Ocean Observatories Initiative (OOI). The notice was published later than anticipated (Federal Register: April 24, 2008 [Volume 73, Number 80], page 22180). The deadline for submittal of comments is now May 26, 2008. The Draft PEA can be found at http://www.nsf.gov/geo/oce/pubs/OOI_Draft_EA_4_08.pdf.

DATES: Deadline for submittal of public comments is now May 26, 2008.

FOR FURTHER INFORMATION CONTACT: Dr. Shelby Walker, National Science Foundation, Division of Ocean Sciences, 4201 Wilson Blvd., Suite 725, Arlington, VA 22230. Telephone: (703) 292-8580.

SUPPLEMENTARY INFORMATION: The National Science Foundation (NSF) is extending the time for public comment on a Draft PEA for the OOI. The notice was published later than anticipated (Federal Register: April 24, 2008 [Volume 73, Number 80], page 22180). The deadline for submittal of comments is now May 26, 2008. The Draft PEA is posted on the NSF Division of Ocean Sciences homepage under Additional OCE Resources and can be found at http://www.nsf.gov/geo/oce/pubs/OOI_Draft_EA_4_08.pdf.

Dated: April 24, 2008.
Suzanne H. Plimpton,
Reports Clearance Officer, National Science Foundation.

[FR Doc. E8-9350 Filed 4-29-08; 8:45 am]

BILLING CODE 7555-01-P